INTERNATIONAL TRADE COMMISSION

[Inv. No. 337-TA-580]

In the Matter of Certain Peripheral Devices and Components Thereof and Products Containing Same; Notice of a Commission Determination Not To Review an Initial Determination Terminating the Investigation

AGENCY: U.S. International Trade Commission.

ACTION: Notice.

SUMMARY: Notice is hereby given that the U.S. International Trade Commission has determined not to review an initial determination (“ID”) of the presiding administrative law judge (“ALJ”) terminating the above-captioned investigation under section 337 of the Tariff Act of 1930 (19 U.S.C. 1337). The Commission has terminated the investigation based on settlement and licensing agreements.

FOR FURTHER INFORMATION CONTACT: Clint Gerdine, Esq., telephone 202-708-2310, Office of the General Counsel, U.S. International Trade Commission, 500 E Street, SW., Washington, DC 20436. Copies of all nonconfidential documents filed in connection with this investigation are or will be available for inspection during official business hours (8:45 a.m. to 5:15 p.m.) in the Office of the Secretary, U.S. International Trade Commission, 500 E Street SW., Washington, DC 20436, telephone 202-205-2000. General information concerning the Commission may also be obtained by accessing its Internet server (http://www.usitc.gov). The public record for this investigation may be viewed on the Commission's electronic docket (EDIS) at http://edis.usitc.gov. Hearing-impaired persons are advised that information on the matter can be obtained by contacting the Commission's TDD terminal on 202-205-1810.

SUPPLEMENTARY INFORMATION: The Commission instituted this investigation on September 6, 2006, based on a complaint filed on August 1, 2006, by Microsoft Corporation of Redmond, Washington. 71 FR 52578. The complaint alleges violations of section 337 in the importation into the United States, the sale for importation, and the sale within the United States after importation of certain peripheral devices and components thereof and products containing same by reason of infringement of U.S. Patent No. 6,460,094 and U.S. Patent No. 6,795,949. The complaint further alleges that an industry in the United States exists as required by subsection (a)(2) of section 337. The complaint named a single respondent: Belkin Corporation of Compton, California. The complaint further alleged that an industry in the United States exists as required by subsection (a)(2) of section 337.

On November 30, 2006, the complainant and the only respondent filed a joint motion to terminate the investigation on the basis of settlement and licensing agreements. The Commission Investigative Attorney filed a response in support of the motion on December 11, 2006.

The ALJ issued the subject ID on December 19, 2006, granting the joint motion for termination. No party petitioned for review of the ID pursuant to 19 CFR 210.43(a), and the Commission found no basis for ordering a review on its own initiative pursuant to 19 CFR 210.44. The Commission has determined not to review the ID.

The authority for the Commission's determination is contained in section 337 of the Tariff Act of 1930, as amended (19 U.S.C. 1337), and in sections 210.21(a)(2), (b) and 210.42(h)(3) of the Commission's Rules of Practice and Procedure.

By order of the Commission.
Issued: January 4, 2007.
Marilyn R. Abbott,
Secretary to the Commission.

[FR Doc. E7-122 Filed 1-9-07; 8:45 am]

BILLING CODE 7020-02-P